INTERNATIONAL TRADE COMMISSION

[Investigation Nos. 731-TA-873-875, 878-880, and 882 (Third Review)]

Steel Concrete Reinforcing Bar From Belarus, China, Indonesia, Latvia, Moldova, Poland, and Ukraine

Determinations

On the basis of the record ¹ developed in the subject five-year reviews, the United States International Trade Commission (“Commission”) determines, pursuant to the Tariff Act of 1930 (“the Act”), that revocation of the antidumping duty orders on steel concrete reinforcing bar from Belarus, China, Indonesia, Latvia, Moldova, Poland, and Ukraine would be likely to lead to continuation or recurrence of material injury to an industry in the United States within a reasonably foreseeable time.²

¹ The record is defined in sec. 207.2(f) of the Commission's Rules of Practice and Procedure (19 CFR 207.2(f)).

² Commissioner Meredith M. Broadbent dissenting with respect to the antidumping duty orders on steel concrete reinforcing bar from Indonesia, Latvia, and Poland.

Background

The Commission, pursuant to section 751(c) of the Act (19 U.S.C. 1675(c)), instituted these reviews on June 1, 2018 (83 FR 25490) and determined on September 4, 2018 that it would conduct expedited reviews (83 FR 48651, September 26, 2018).

The Commission made these determinations pursuant to section 751(c) of the Act (19 U.S.C. 1675(c)). It completed and filed its determinations in these reviews on November 30, 2018. The views of the Commission are contained in USITC Publication 4838 (November 2018), entitled Steel Concrete Reinforcing Bar from Belarus, China, Indonesia, Latvia, Moldova, Poland, and Ukraine: Investigation Nos. 731-TA-873-875, 878-880, and 882 (Third Review).

By order of the Commission.
Issued: December 3, 2018.
Lisa Barton,
Secretary to the Commission.

[FR Doc. 2018-26541 Filed 12-6-18; 8:45 am]

BILLING CODE 7020-02-P